DEPARTMENT OF AGRICULTURE

Food Safety and Inspection Service

[Docket No. 04-027N]

FSIS Policy on Delinquent Payments for Voluntary Reimbursable Inspection Services

AGENCY: Food Safety and Inspection Service (FSIS), USDA.

ACTION: Notice.

SUMMARY: The Food Safety and Inspection Service (FSIS) is providing notice that it will not provide reimbursable voluntary inspection, certification, and identification services to persons who have delinquent accounts. FSIS charges fees for a variety of voluntary reimbursable inspection, certification, and identification services that it provides to official establishments and plants and non-official establishments, e.g., warehouses, importers, and exporters. FSIS is required to recover the costs of the voluntary inspection, certification, and identification services it provides. FSIS will pursue the collection of debts owed to it for such services.

DATES: This notice is effective March 2, 2005.

FOR FURTHER INFORMATION CONTACT: For further information contact Teresa Ramsey, Deputy Director, Financial Management Division, Office of Management, FSIS, U.S. Department of Agriculture, 5601 Sunnyside Avenue, Mail Drop 5262 Beltsville, MD 20705, (301) 504-5885.

SUPPLEMENTARY INFORMATION:

Background

FSIS is providing notice of the actions it will take in regard to its provision of voluntary reimbursable inspection, certification, and identification services to persons who are delinquent in paying for such services. FSIS is authorized to charge fees for the voluntary inspection, certification, and identification services it provides pursuant to the Agricultural Marketing Act of 1946, as amended (7 U.S.C. 1621, et seq.). The regulations that currently authorize the charging of these fees are set forth in Title 9 of the Code of Federal Regulations in sections 350.7, 351.8, 351.9, 352.5, 354.100 through 354.110, 355.11, 355.12, 362.5, and part 592.

FSIS provides monthly bills to recipients of inspection, certification, and identification services. Those bills indicate when payment is due. Payments not received when due are delinquent, thus resulting in the recipient of the services having a delinquent account.

As of the effective date of this notice, if payment for voluntary reimbursable inspection, certification, and identification services, including payment of interest, penalty, and administrative charges, is delinquent, the Agency will take the following actions:

• FSIS will send the recipient of the service a dated “dunning notice.”

• FSIS will send a certified letter, along with a second dunning notice, to the recipient of the services if the requested payment in full is not received within 30 days of the date of the initial dunning notice. If payment in full is not received by FSIS within 14 days from the date the certified letter and second dunning notice are received, no further voluntary inspection, certification, and identification services will be provided until payment in full of the delinquent debt, including any interest, penalty, and administrative charges assessed, is received.

• If a debtor either fails to make payment in full of a delinquent debt or does not enter into a written repayment agreement with FSIS, the Agency will transfer the delinquent debt to the U.S. Department of the Treasury for cross-servicing in accordance with the Debt Collection Improvement Act of 1996, as amended. At the discretion of the Secretary of the U.S. Department of the Treasury, referral of a delinquent non-tax debt may be made to (A) any executive department or agency operating a debt collection center for collection action; (B) a private collection contractor operating under a contract for servicing or collection action; or (C) the U.S. Department of Justice for litigation.

This notice applies to the provision of reimbursable voluntary inspection, certification, and identification services provided pursuant to the Agricultural Marketing Act of 1946, as amended (7 U.S.C. 1621, et seq.) and regulations enacted thereunder.

Additional Public Notification

Public awareness of all segments of rulemaking and policy development is important. Consequently, in an effort to ensure that the public and in particular minorities, women, and persons with disabilities, are aware of this notice, FSIS will announce it on-line through the FSIS Web page located at http://www.fsis.usda.gov.

FSIS also will make copies of this Federal Register publication available through the FSIS Constituent Update, which is used to provide information regarding FSIS policies, procedures, regulations, Federal Register notices, FSIS public meetings, recalls, and other types of matters that could affect or would be of interest to our constituents and stakeholders. The update is communicated via Listserv, a free e-mail subscription service consisting of industry, trade, and farm groups, consumer interest groups, allied health professionals, scientific professionals, and other individuals who have requested to be included.

The update also is available on the FSIS Web page. Through Listserv and the Web page, FSIS is able to provide information to a much broader, more diverse audience.

In addition, FSIS offers an email subscription service which provides an automatic and customized notification when popular pages are updated, including Federal Register publications and related documents. This service is available at http://www.fsis.usda.gov/news_and_events/email_subscription/ and allows FSIS customers to sign up for subscription options across eight categories. Options range from recalls to export information to regulations, directives and notices. Customers can add or delete subscriptions themselves and have the option to password protect their account.

Done at Washington, DC, on: January 25, 2005.
Barbara J. Masters,
Acting Administrator.

[FR Doc. 05-1703 Filed 1-28-05; 8:45 am]

BILLING CODE 3410-DM-P